DEPARTMENT OF LABOR

Employment and Training Administration

[TA-W-72,729]

International Paper Company, Pineville Mill Industrial Packaging Group; Pineville, LA; Notice of Negative Determination on Reconsideration

On October 15, 2010, the Department of Labor (Department) issued an Affirmative Determination Regarding Application for Reconsideration for the workers and former workers of International Paper Company, Pineville Mill, Industrial Packaging Group, Pineville, Louisiana (subject facility). The Department's Notice was published in the Federal Register on October 29, 2010 (75 FR 66795). The subject workers produce containerboard/paperboard (uncoated freesheet containerboard).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination based on the findings that neither International Paper Company (subject firm) nor any of its customers imported articles like or directly competitive with uncoated freesheet containerboard produced at the subject facility, and that the subject firm neither shifted production to a foreign country nor acquired from another country articles like or directly competitive with the uncoated freesheet containerboard produced at the subject facility. The initial investigation also revealed that the workers are not eligible to apply for TAA as adversely-impacted secondary workers because the subject facility did not produce a component part that was used by a firm that both employed a worker group that is currently eligible to apply for TAA and directly incorporated the containerboard in the production of the article that was the basis for the TAA certification.

In the request for reconsideration, a subject firm official provided new information regarding the article produced at the subject facility, possible customer imports, and the possibility that workers are adversely-impacted secondary workers.

During the reconsideration investigation, the Department contacted the subject firm to confirm and clarify previously-submitted information. The Department also reviewed previous International Paper Company certifications to determine whether the subject workers are adversely-impacted secondary workers.

Information obtained during the reconsideration investigation confirmed that the workers at the subject facility were engaged in employment related to the production of containerboard/paperboard.

Information obtained during the reconsideration investigation also confirmed that, during the relevant period, the subject firm did not import either articles like or directly competitive with containerboard/paperboard, or articles directly incorporating foreign-produced component parts which are like or directly competitive with imports of articles incorporating component parts produced by the subject facility.

Information obtained during the reconsideration investigation also confirmed that the subject facility supplies directly to box production plants and that a customer survey is not necessary because the majority of the customers of the subject facility are other subject firm facilities.

Information obtained during the reconsideration investigation also confirmed that the subject facility did not produce and supply a component part that was used by a firm (including an affiliated facility of the subject firm) that both employed a worker group that is currently eligible to apply for TAA and directly incorporated the containerboard/paperboard in the production of that article that was the basis for the TAA certification. Although four subject firm facilities employed workers eligible to apply for TAA, none can be the basis for a secondary impact certification in the case at hand.

Conclusion

After reconsideration, I affirm the original notice of negative determination of eligibility to apply for worker adjustment assistance for workers and former workers of International Paper Company, Pineville Mill, Industrial Packaging Group, Pineville, Louisiana.

Signed in Washington, DC, on this 15th day of February, 2011.
Del Min Amy Chen,
Certifying Officer, Office of Trade Adjustment Assistance.

[FR Doc. 2011-5929 Filed 3-14-11; 8:45 am]

BILLING CODE 4510-FN-P